DEPARTMENT OF EDUCATION

RIN 1820-ZA35

Special Demonstration Programs—Model Demonstration Projects—Positive Psychology

AGENCY: Office of Special Education and Rehabilitative Services, Department of Education.

ACTION: Notice of final priority, definitions, and application requirements.

SUMMARY: The Assistant Secretary for the Office of Special Education and Rehabilitative Services announces a priority, definitions, and application requirements under the Special Demonstration Programs. The Assistant Secretary may use this priority, definitions, and application requirements for competitions in fiscal year (FY) 2004 and later years. We take this action to focus on an area of national need. We intend the priority to improve the quality of employment outcomes for vocational rehabilitation (VR) consumers through testing and measuring the effects of three specific positive psychology techniques for use within State VR agencies and American Indian VR Services (AIVRS) projects. The three specific techniques are—learned optimism, strengths and virtues versus talents for employment, and subjective well-being.

DATES: Effective Date: This priority, these definitions, and these application requirements are effective September 13, 2004.

FOR FURTHER INFORMATION CONTACT: Alfreda Reeves, U.S. Department of Education, 400 Maryland Avenue, SW., room 5040, Potomac Center Plaza, Washington, DC 20202-2800. Telephone: (202) 245-7485 or via Internet: Alfreda.Reeves@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: The authority for these projects is title III, section 303(b) of the Rehabilitation Act of 1973, as amended (Act) (29 U.S.C. 773(b)) and 34 CFR part 373.

Positive psychology is the study and practice of counseling techniques based on cognitive-behavioral therapy to assist individuals to develop an increased awareness of their own positive character strengths, emotional processing, and belief systems (Seligman & Csikszentmihalyi, 2000). These techniques help consumers to build skills so that they can accurately assess beliefs about themselves that may create barriers to effectively coping with adversities that occur in their lives. These techniques may also expand their ability to challenge these beliefs in order to pursue flexible and appropriate responses to their adversities. Positive psychology techniques empower individuals to take control of their own lives, to increase their capacity for effective decisionmaking, and to persist in pursuing goal-directed activities.

Research in positive psychology has yielded a variety of approaches to assist individuals to identify their own beliefs and actions that are barriers to their ability to handle effectively life's adversities. These approaches are based on the techniques of cognitive-behavioral skills development and include models developed to change rigid and pessimistic beliefs and cognitive constructs to more flexible and positive ones. Major work in developing positive psychology approaches has been reported by Martin Seligman (1991), Barbara Fredrickson (2001), Mihaly Csikszentmihalyi (1997), Reivich & Shatte (2002), and others. A review of the literature by the National Institute on Disability and Rehabilitation Research (NIDRR) and use of the PsychArticles research database revealed one reported application of the principles of positive psychology to the employment outcomes of individuals with disabilities (Chapin & Kewin, 2001). However, no research literature was identified that applied these principles and techniques to individuals with disabilities in VR settings. The overall objective of the positive psychology priority is to develop and demonstrate the validity of counseling tools and techniques based on the principles of positive psychology with individuals with disabilities in the VR system. The priority supports section 303(b) by furthering the purposes of the Act, specifically empowering consumers of VR by implementing techniques that will increase the skills of individuals with disabilities, enabling them to achieve high quality employment outcomes.

Successful projects under this model demonstration program would address three specific aspects of positive psychology and their application to rehabilitation—learned optimism, strengths and virtues versus talents for employment, and subjective well-being.

We published a notice of proposed priority, definitions, and application requirements for this program in the Federal Register on May 26, 2004 (69 FR 30138). That notice included a discussion of the significant issues and analysis used in the determination of the priority, definitions, and application requirements.

Except for minor editorial and technical revisions, there are two minor differences between the notice of proposed priority, definitions, and application requirements and this final notice. These changes were made to clarify the following:

1. Consumers served by AIVRS projects may be included in the test population; and

2. The applicant must address all three positive psychology techniques.

Analysis of Comments and Changes

In response to our invitation in the notice of proposed priority, definitions, and application requirements, six parties submitted comments. An analysis of the comments and of any changes in the priority, definitions, and application requirements since publication of the notice of proposed priority, definitions, and application requirements follows.

Generally, we do not address technical and other minor changes—and suggested changes that we are not authorized to make under the applicable statutory authority.

Comment: One commenter stated that the priority should require applicants to specify how they will ensure adequate sampling of VR consumers from minority backgrounds and underserved populations. The commenter suggested that projects collaborate with the AIVRS projects and community agencies that serve minority populations in order to obtain sufficiently representative samples from these populations.

Discussion: The application selection criteria already require applicants to describe how they will adequately address the needs of individuals from minority backgrounds and underserved populations, if these populations reside within the applicant's proposed service area. The selection criteria specifically require the quality and sufficiency of strategies for ensuring equal access and treatment for eligible project participants who are members of groups that have traditionally been underrepresented based on race, color, national origin, gender, age, or disability (34 CFR 75.210(d)(2)). In addition, we are clarifying the fact that consumers of the AIVRS projects are eligible participants in this priority.

Change: The General Requirements for Applicants section has been changed to reflect that consumers of AIVRS projects may be part of the test population.

Comments: Three commenters suggested that the priority include the study of additional factors that create or reduce barriers to individuals with disabilities in obtaining employment, including environmental, community, peer, cultural, spiritual, and service provider characteristic factors.

Discussion: We agree that a variety of factors have an impact on the employment outcomes of individuals with disabilities. However, this priority is intended only to demonstrate the effectiveness of the specific positive psychology factors defined within the notice.

Change: None.

Comments: Two commenters stated that the techniques of positive psychology are not distinct from other techniques used within the broader theoretical area of cognitive-behavioral psychology and that the priority should be expanded to include other techniques and interventions.

Discussion: We agree that the specific intervention areas defined in the priority can be considered within the context of cognitive-behavioral techniques. However, positive psychology focuses on developing consumers' positive attributes rather than on remediating areas of deficit. Not all cognitive-behavioral techniques have this focus. The American Psychological Association determined that positive psychology is a field of practice distinct enough to warrant its own division within the association. No research literature has been identified that applied these principles and techniques to individuals with disabilities in VR settings. Therefore, the purpose of the priority is to test these particular techniques in the VR settings.

Change: None.

Comment: One commenter suggested that the subjective well-being (SWB) topic area be dropped from the priority because SWB is an overall outcome of most positive psychology approaches rather than a distinct objective of its own.

Discussion: We agree that SWB is an anticipated outcome of most positive psychology interventions. However, improvements in the area of SWB can be demonstrated as a part of outcome measurements for the other stipulated focus areas, i.e., learned optimism and strengths and virtues interventions. Nothing in the priority requires that SWB be a solitary outcome.

Change: None.

Comment: One commenter suggested that the priority include the option of using a research approach that would compare each individual intervention approach outcome to the outcomes resulting from combining approaches.

Discussion: The selection of the research and demonstration method is determined by applicants and included in their applications submitted for review. The priority does not impose limitations on the proposed research other than requiring that proposed activities focus on the defined areas of learned optimism, strengths and virtues versus talents for employment, and SWB. Applicants may include a combined approach if desired.

Change: None.

Comment: One commenter stated that the priority should stipulate whether applicants can choose to focus on one subpopulation of individuals with disabilities or if participants must represent cross-disability populations.

Discussion: The priority does not stipulate the selection of participants for the project other than that participants must be individuals with disabilities served by the State VR agencies or AIVRS projects. Applicants may select their project participants as part of their overall project design.

Change: None.

Comment: One commenter stated that the priority should stipulate whether applicants must address all three aspects of positive psychology listed in the notice and suggested that the language in the General Requirements for Applicants section, concerning adapting, testing, and measuring the impact of the three positive psychology strategies, is unclear.

Discussion: We agree that there should be clarity in whether the priority addresses all three techniques of positive psychology listed in the notice.

Change: The General Requirements for Applicants section has been changed to reflect that projects must test and measure the effects of all three techniques identified in the priority.

Note: This notice does not solicit applications. In any year in which we choose to use this priority, definitions, and application requirements, we invite applications through a notice in the Federal Register. When inviting applications we designate the priority, definitions, and application requirements as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Priority, Definitions, and Application Requirements—Model Demonstration Projects—Positive Psychology

Under 34 CFR 75.105(b)(2)(v) and section 303(b)(1) of the Rehabilitation Act of 1973, as amended (Act), this priority supports projects that test and measure the effects of three specific positive psychology techniques for vocational rehabilitation (VR) professionals for improving the quality of employment outcomes for individuals with disabilities. The three positive psychology techniques identified are—learned optimism, strengths and virtues versus talents for employment, and subjective well-being (SWB). The models tested under this program must incorporate effective, research-based positive psychology methods.

A. Definitions

Learned optimism teaches people to become more hopeful, realistic, and flexible in their identification of and disputation of internal beliefs that result in rigid, pessimistic, and negative outcome expectations.

Strengths and virtues versus talents for employment is a theoretical concept that links the internal characteristics of individuals rather than specific functional skills or talents with employment success.

Subjective well-being is a measurement of an individual's positive view of himself or herself across a number of dimensions, including optimism, life satisfaction, engagement, health, and sense of purpose.

B. General Requirements for Applicants

These model demonstration projects must focus on research-based positive psychology principles that adapt appropriate techniques for VR professionals to use to assist VR consumers served by State VR agencies or American Indian Vocational Rehabilitation Services (AIVRS) projects to obtain meaningful postsecondary education and employment outcomes. The projects must test and measure the effects of all three techniques identified in this priority on achieving meaningful postsecondary education and employment outcomes. The projects must measure outcomes associated with each required technique. An applicant must be specific about what data it will collect in order to measure project outcomes against the established goals.

To meet the requirements an applicant must—

(1) Describe the manner in which positive psychology strategies will increase participation in postsecondary education and employment outcomes for consumers served by State VR agencies or the AIVRS projects;

(2) Adapt, test, and measure the impact of all three positive psychology strategies identified in this priority on increasing the level of optimism of consumers served by State VR agencies or the AIVRS projects and investigate the relationship between learned optimism and consumers' outcomes;

(3) Adapt and develop positive psychology assessment tools to identify the strengths and virtues of individuals with disabilities, identify specific job environments that match specific strengths and virtues, pilot placement activities with individuals with disabilities based on the fit of their strengths and virtues, and investigate the relationship of consumers' strengths and virtues and meaningful postsecondary education and employment outcomes;

(4) Develop positive psychology strategies to enhance SWB of people with disabilities in the VR setting. Projects must investigate the relationship between these strategies and meaningful postsecondary education and employment outcomes;

(5) Design and implement an evaluation plan that—

(a) assesses the validity of the models tested and developed under this project;

(b) includes use of objective performance measures that are clearly related to the intended outcomes and goals of the project and will produce quantitative and qualitative data to the extent possible; and

(c) provides performance feedback and permits periodic assessment of progress toward achieving intended outcomes and goals; and

(6) Disseminate these strategies, as appropriate, to State VR agencies and the AIVRS projects, their service providers, and independent living centers funded by the Rehabilitation Services Administration and other agencies and entities funded under the Act.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 373.

Electronic Access to This Document

You may review this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.235, Special Demonstration Programs—Model Demonstration Projects—Positive Psychology)
Program Authority: 29 U.S.C. 773(b).
Dated: August 11, 2004.
Troy R. Justesen,
Acting Deputy Assistant Secretary for Special Education and Rehabilitative Services.

[FR Doc. 04-18630 Filed 8-12-04; 8:45 am]

BILLING CODE 4000-01-P